DEPARTMENT OF COMMERCE

Office of the Secretary

Agency Information Collection Activities; Submission to the Office of Management and Budget (OMB) for Review and Approval; Comment Request; The Environmental Questionnaire and Checklist (EQC)

AGENCY: Office of Sustainable Energy and Environmental Programs, Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: Written comments must be submitted on or before July 31, 2023.

ADDRESSES: Interested persons are invited to submit written comments to Kristen Thomas, Associate Director, Office of Sustainable Energy and Environmental Programs, and PRAcomments@doc.gov. Please reference OMB Control Number 0608-0028 in the subject line of your comments. Do not submit Confidential Business Information or otherwise sensitive or protected information.

FOR FURTHER INFORMATION CONTACT: Requests for additional information or specific questions related to collection activities should be directed to Kristen Thomas, Associate Director, Office of Sustainable Energy and Environmental Programs, kthomas@doc.gov or (202) 482-1202.

SUPPLEMENTARY INFORMATION:

I. Abstract

This request is for an extension of a currently approved information collection. The National Environmental Policy Act (NEPA) (42 U.S.C. 4321-4347) and the White House Council on Environmental Quality's (CEQ) Regulations for Implementing NEPA (40 CFR parts 1500-1508) require that Federal agencies complete an environmental analysis for all major Federal actions significantly affecting the environment. Those actions may include a Federal agency's decision to fund non-Federal projects under grants and cooperative agreements, including infrastructure projects. In order to determine NEPA compliance requirements for a project receiving Department of Commerce (DOC) bureau-level funding, DOC must assess information which can only be provided by the applicant for Federal financial assistance (grant).

The Environmental Questionnaire and Checklist (EQC) provides Federal financial assistance applicants and DOC staff with a tool to ensure that the necessary project and environmental information is obtained. The EQC was developed to collect data concerning potential environmental impacts that the applicant for Federal financial assistance possesses and to transmit that information to the Federal reviewer. The EQC allows for a more rapid review of projects and facilitate DOC's evaluation of the potential environmental impacts of a project and level of NEPA documentation required. DOC staff use the information provided in answers to the questionnaire to determine compliance requirements for NEPA and conduct subsequent NEPA analysis as needed. Information provided in the questionnaire may also be used for other regulatory review requirements associated with the proposed project, such as the National Historic Preservation Act.

II. Method of Collection

The primary method of collection will be the internet (electronically). Some supporting documents may be emailed or mailed.

II. Data

OMB Control Number: 0690-0028.

Form Number: CD-593.

Type of Review: Regular submission (extension of a currently approved collection).

Affected Public: Business or other for-profit organizations; individuals or households; not-for-profit institutions; State, local, or Tribal government; and Federal Government.

Estimated Number of Respondents: 1,000.

Estimated Time per Response: 3 hours.

Estimated Total Annual Burden Hours: 3,000.

Estimated Total Annual Cost to Public: $1,200 in mailing costs ($6 × approximately 200 respondents who choose to mail rather than email attachments).

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Under Secretary for Economic Affairs, Commerce Department.

[FR Doc. 2023-11451 Filed 5-30-23; 8:45 am]

BILLING CODE 3510-NW-P